DEPARTMENT OF THE INTERIOR

Office of the Secretary

Privacy Act of 1974, as Amended; Notice of a New System of Records

AGENCY: Office of the Secretary, Interior.

ACTION: Notice of creation of a new system of records.

SUMMARY: Pursuant to the provisions of the Privacy Act of 1974, as amended, the Department of the Interior is issuing a public notice of its intent to create the Department of the Interior system of records titled, Department of the Interior Social Networks. The system will assist the Department of the Interior by providing new ways to connect and share information, and solicit and receive feedback freely with the public. This newly established system will be included in the Department of the Interior's inventory of record systems.

DATES: Comments must be received by August 31, 2011. This new system will be effective August 31, 2011.

ADDRESSES: Any person interested in commenting on this new system of records may do so by: submitting comments in writing to the OS/NBC Privacy Act Officer, 1951 Constitution Avenue, NW., Mail Stop 116 SIB, Washington, DC 20240; hand-delivering comments to the OS/NBC Privacy Act Officer, 1951 Constitution Avenue, NW., Mail Stop 116 SIB, Washington, DC 20240; or e-mailing comments to privacy@nbc.gov.

FOR FURTHER INFORMATION CONTACT: System Manager, Director of New Media, 1849 C Street NW., Mail Stop 6320 MIB, Washington, DC 20240, 202-208-7975.

SUPPLEMENTARY INFORMATION:

I. Background

The Department of the Interior is creating the DOI Social Networks system of records. The purpose of this system is to allow the Department of the Interior to interact with the public using third party or commercial social media applications. These applications facilitate the sharing of information and ideas between the Department of the Interior and the public. Many social media applications require users to register or provide information to utilize their services. While the Department of the Interior may use social media applications to connect with the public in an official capacity, information provided by an individual to register with the third party site is rarely shared with the Department. Information collected and stored by the social media applications is subject to the third party privacy policies posted on their Web sites. The Department of the Interior may receive contact information from the third party site for individuals who wish to have further contact with the Department for additional communications such as dissemination of information for an upcoming event, notification of an emergency or breaking news, or solicitation of feedback about a program. The Department may also receive user names or e-mails for individuals who have commented or submitted information on a Department of the Interior section on a social media Web site. The Department may also receive information indirectly from social media sites as part of specific programs or initiatives.

The Department may use social media applications to share information with the public, to collect ideas and comments submitted by the public, and to promote participation and collaboration with the public. A list of the Department of the Interior's Social Media presence can be found at: http://www.doi.gov/news/Social-Media.cfm. The information provided by the Department on these social media sites is also available on Department of the Interior public Web sites. If the Department is requesting feedback from the public through the use of a social media site, an alternative DOI e-mail address will also be provided so that the public may interact with the Department without having to use the social media site. When an individual submits an e-mail directly to the Department, the Department will maintain the individual's e-mail, and any other personal information provided in their e-mail, in accordance with applicable records retention policy. All interactions by the public are voluntary. The Department of the Interior's Social Media Policy can be found at: http://www.doi.gov/notices/Social-Media-Policy.cfm.

The system will be effective as proposed at the end of the comment period (the comment period will end 40 days after the publication of this notice in the Federal Register), unless comments are received that would require a contrary determination. DOI will publish a revised notice if changes are made based upon a review of the comments received.

II. Privacy Act

The Privacy Act of 1974, as amended, embodies fair information principles in a statutory framework governing the means by which Federal agencies collect, maintain, use, and disseminate individuals' personal information. The Privacy Act applies to information that is maintained in a “system of records.” A “system of records” is a group of any records under the control of an agency for which information is retrieved by the name of an individual or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act Regulations, 43 CFR part 2.

The Privacy Act requires each agency to publish in the Federal Register a description denoting the type and character of each system of records that the agency maintains, the routine uses that are contained in each system in order to make agency record keeping practices transparent, to notify individuals regarding the uses of their records, and to assist individuals to more easily find such records within the agency. Below is the description of the Department of the Interior Social Networks system of records.

In accordance with 5 U.S.C. 552a(r), DOI has provided a report of this system of records to the Office of Management and Budget and to Congress.

III. Public Disclosure

Before including your address, phone number, e-mail address, or other personal identifying information in your comment, you should be aware that your entire comment—including your personal identifying information—may be made publicly available at any time. While you can ask us in your comment to withhold your personal identifying information from public review, we cannot guarantee that we will be able to do so.

Dated: July 5, 2011.
Karen Burke,
OS/NBC Privacy Act Officer.

SYSTEM OF RECORDS:

DOI-08

SYSTEM NAME:

DOI Social Networks.

SYSTEM CLASSIFICATION:

Unclassified.

SYSTEM LOCATION:

Records contained in these systems of records are maintained by the Bureau or Office conducting the social media outreach.

(1) Office of the Secretary, 1849 C Street, NW., Washington, DC 20240.

(2) Bureau of Land Management, 1120 20th Street, NW., Washington, DC 20036.

(3) U.S. Bureau of Reclamation, Denver Federal Center, P.O. Box 25007, Denver, Colorado 80225-0007.

(4) U.S. Geological Survey, 12201 Sunrise Valley Drive, Reston, Virginia 20192.

(5) National Park Service, 1201 I Street, NW., Org Code 2652, Washington, DC 20005.

(6) U.S. Fish and Wildlife Service, 4501 N. Fairfax Drive, Arlington, Virginia 22203.

(7) Bureau of Ocean Energy Management, Regulation and Enforcement, 381 Elden Street, Herndon, Virginia 20170.

(8) Office of Surface Mining Reclamation and Enforcement, 1951 Constitution Avenue, NW., Washington, DC 20240.

(9) Bureau of Indian Affairs, 625 Herndon Parkway, Herndon, VA 20170.

Social media sites may retain separate records from the Department. Please see the Department of the Interior Privacy Policy for more information. http://www.doi.gov/privacy.cfm.

CATEGORIES OF INDIVIDUALS COVERED BY THE SYSTEM:

Individuals who contact the Department of the Interior through a social media outlet or other electronic means, including submitting feedback to the Department of the Interior, corresponding with the Department as a result of the Department's outreach using social networks, or requesting to be contacted by the Department.

CATEGORIES OF RECORDS IN THE SYSTEM:

This system may contain information passed through a social media site to facilitate interaction with the Department such as, but not limited to: first name, last name, username, e-mail address, home or work address, contact information, and phone numbers. It may also include input and feedback from the public, such as comments, e-mails, videos, and images, which may include tags, geotags or geographical metadata. Depending on the circumstances of the individual's interaction and the social media site being used, it may include data provided to the Department such as date of birth, age, security questions, IP addresses, passwords, financial data, educational, business, or volunteer affiliation.

AUTHORITY FOR MAINTENANCE OF THE SYSTEM:

Presidential Memorandum to the Heads of Executive Departments and Agencies on Transparency and Open Government, January 21, 2009. OMB M-10-06, Open Government Directive, Dec. 8, 2009. OMB M-10-22, Guidance for Online Use of Web Measurement and Customization Technologies, June 25, 2010. OMB M-10-23, Guidance for Agency Use of Third-Party Web sites and Applications, June 25, 2010. The Department of the Interior, Establishment, 43 U.S.C. 1451.

ROUTINE USES OF RECORDS MAINTAINED IN THE SYSTEM, INCLUDING CATEGORIES OF USERS AND THE PURPOSES OF SUCH USES:

The purpose of this system is to allow the Department of the Interior to interact with the public and provide additional transparency to the public through the use of social media. Registration information, username, comments, and suggestions made by the public on third party social networks where the Department has an official presence may be collected by third party social networks for registration or use of social media sites. Information and comments provided may be utilized by the Department of the Interior to facilitate interaction with the public, to disseminate information regarding an upcoming event, to notify the public of an emergency or breaking news, or solicit feedback about Departmental programs. The Department of the Interior may also respond to information received directly from individuals who provide feedback from social media outreach using alternate methods, such as an e-mail directly to the Department, a form on a DOI Web page, or comments on a DOI blog.

A list of the Department of the Interior's Social Media presence can be found at: http://www.doi.gov/news/Social-Media.cfm.

Disclosures outside DOI may be made without the consent of the individual to whom the record pertains under the routine uses listed below:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To the Executive Office of the President in response to an inquiry from that office made at the request of the subject of a record or a third party on that person's behalf, or for a purpose compatible for which the records are collected or maintained.

(4) To any criminal, civil, or regulatory law enforcement authority (whether Federal, state, territorial, local, Tribal or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, state, territorial, local, Tribal, or foreign agencies that have requested information relevant or necessary to the hiring, firing or retention of an employee or contractor, or the issuance of a security clearance, license, contract, grant or other benefit, when the disclosure is compatible with the purpose for which the records were compiled.

(7) To representatives of the National Archives and Records Administration to conduct records management inspections under the authority of 44 U.S.C. 2904 and 2906.

(8) To state and local governments and Tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To a consumer reporting agency if the disclosure requirements of the Debt Collection Act, as outlined at 31 U.S.C. 3711(e)(1), have been met.

(14) To the news media and the public, with the approval of the Public Affairs Officer in consultation with Counsel and the Senior Agency Official for Privacy, where there exists a legitimate public interest in the disclosure of the information, except to the extent it is determined that release of the specific information in the context of a particular case would constitute an unwarranted invasion of personal privacy.

POLICIES AND PRACTICES FOR STORING, RETRIEVING, ACCESSING, RETAINING AND DISPOSING OF RECORDS IN THE SYSTEM:

STORAGE:

Paper records are contained in file folders stored in file cabinets; electronic records are contained in removable drives, computers, e-mail and electronic databases.

RETRIEVABILITY:

Information may be retrieved by full-text search, name, image, video, e-mail address, user name, or date received.

SAFEGUARDS:

The records contained in this system are safeguarded in accordance with applicable security rules and policies. Access to the servers containing the records in this system is limited to DOI personnel who have a need to know the information for the performance of their official duties. The DOI servers storing this information are located in secured DOI facilities with access codes, security codes, and security guards. Personnel authorized to access systems must complete all Security, Privacy, and Records training and sign the DOI rules of behavior. Access to DOI networks and data requires a valid username and password. Manual records are maintained in file cabinets located in secure DOI facilities under the control of authorized personnel.

RETENTION AND DISPOSAL:

Records are retained and disposed of in accordance with DOI social media records schedule. The disposition is temporary, and records will be destroyed when no longer needed for agency business.

SYSTEM MANAGER AND ADDRESS:

Policy official is the Director of New Media, 1849 C Street, NW., Washington, DC 20240. Records holders are organizational elements of the Department of the Interior Bureaus and Offices who utilize social networks:

(1) Director of New Media, 1849 C Street, NW., Washington, DC 20240.

(2) Office of the Secretary, 1849 C Street, NW., Washington, DC 20240.

(3) Bureau of Land Management, 1120 20th Street, NW., Washington, DC 20036.

(4) U.S. Bureau of Reclamation, Denver Federal Center, P.O. Box 25007, Denver, Colorado 80225-0007.

(5) U.S. Geological Survey, 12201 Sunrise Valley Drive, Reston, Virginia 20192.

(6) National Park Service, 1201 I Street, NW., Org Code 2652, Washington, DC 20005.

(7) U.S. Fish and Wildlife Service, 4501 N. Fairfax Drive, Arlington, Virginia 22203.

(8) Bureau of Ocean Energy Management, Regulation and Enforcement, 381 Elden Street, Herndon, Virginia 20170.

(9) Office of Surface Mining Reclamation and Enforcement, 1951 Constitution Avenue NW., Washington, DC 20240.

(10) Bureau of Indian Affairs, 625 Herndon Parkway, Herndon, VA 20170.

A list of the Department of the Interior's Social Media presence can be found at: http://www.doi.gov/news/Social-Media.cfm.

NOTIFICATION PROCEDURES:

An individual requesting notification of the existence of records on himself or herself should send a signed, written inquiry to the Bureau FOIA Officer. A list of the FOIA Officers and their contact information can be found at http://www.doi.gov/foia/contacts.html. The request letter should be clearly marked “PRIVACY ACT INQUIRY”. The written inquiry should be signed and include as much of the following information as possible: Name, address, the social media site used, identifier used (username, e-mail address, pseudonym), and date range if known. A request for notification must meet the requirements of 43 CFR 2.60.

RECORDS ACCESS PROCEDURES:

An individual requesting access to records on himself or herself should send a signed, written inquiry to the Bureau FOIA Officer. A list of the FOIA Officers and their contact information can be found at http://www.doi.gov/foia/contacts.html. The request letter should be clearly marked “PRIVACY ACT REQUEST FOR ACCESS”. The written inquiry should be signed and include as much of the following information as possible: Name, address, the social media site used, identifier used (username, e-mail address, pseudonym), and date range if known. A request for notification must meet the requirements of 43 CFR 2.63.

CONTESTING RECORDS PROCEDURES:

An individual requesting corrections or contesting information contained in his or her records must send a signed, written request to the Bureau Privacy Act Officer. A list of the Privacy Act Officers and their contact information can be found at: http://www.doi.gov/ocio/privacy/doi_privacy_act_officers.htm. A request for corrections or removal must meet the requirements of 43 CFR 2.71.

RECORD SOURCE CATEGORIES:

Individuals who interact with the Department of the Interior through social media networks or who communicate electronically with the Department in response to public outreach.

EXEMPTIONS CLAIMED FOR THE SYSTEM:

None.

[FR Doc. 2011-18508 Filed 7-21-11; 8:45 am]

BILLING CODE 4310-RK-P